DEPARTMENT OF ENERGY

Federal Energy Regulatory Commission

[Docket No. CP10-484-000]

ANR Pipeline Company; Notice of Request Under Blanket Authorization

August 20, 2010.

Take notice that on August 12, 2010, ANR Pipeline Company (ANR), 717 Texas Street, Houston, Texas 77002-2761, filed in Docket No. CP10-484-000 an application, pursuant to sections 157.205 and 157.216(b) of the Commission's Regulations under the Natural Gas Act (NGA), as amended, for permission and approval to abandon by sale certain natural gas facilities located between Eugene Island Blocks 307 and 305, offshore Louisiana, to Dynamic Offshore Resources NS, LLC (Dynamic), a natural gas producer, under ANR's blanket certificate issued in Docket No. CP82-480-000,¹ all as more fully set forth in the application which is on file with the Commission and open to the public for inspection.

¹ 20 FERC ¶ 62,595 (1982).

ANR proposes to abandon by sale approximately its Line 607 ² (4.41 miles of 16-inch diameter pipeline) and appurtenances, located in Eugene Island Blocks 307, 306, and 305 to Dynamic, pursuant to their June 10, 2010, Pipeline Repair and Purchase and Sale Agreement. ANR states that it would cost an estimated $25,186,000 to replicate the Line 607 facilities today and that no construction or removal of facilities would be required in this proposal.

² ANR constructed the Line 607 facilities, which connect to ANR's Line 606, under authorization granted in Docket No. CP77-386-000 [59 FPC 2164 (1977)].

ANR further states that upon abandonment of the Line 607 facilities, Dynamic intends to operate the facilities as non-jurisdictional facilities and ANR further requests that the Commission consider the Line 607 Facilities to be non-jurisdictional gathering not subject to jurisdiction under Section 1(b) of the Natural Gas Act. However, this specific jurisdictional status request is beyond the scope of requests eligible for consideration under a blanket certificate and the prior notice process. As discussed in Commission Order No. 603-A, the Commission stated that “* * * we clarify that using either the automatic or prior notice authority of this section to abandon facilities by sale to a third party does not address the jurisdictional status of the facilities after the effective date of abandonment. The acquiring party is still responsible for seeking a determination, if one is desired, on the jurisdictional status of the facilities.” ³

³ See Revision of Existing Regulations Under the Natural Gas Act, Order No. 603-A, FERC Stats. & Regs. ¶ 31,081, at 30,936 (1999).

Any questions concerning this application may be directed to Rene Staeb, Manager, Project Determinations & Regulatory Administration, ANR Pipeline Company, 717 Texas Street, Houston, Texas 77002, or via telephone at (832) 320-5215, facsimile (832) 320-6215, or e-mail rene_staeb@transcanada.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the NGA.

Kimberly D. Bose,
Secretary.

[FR Doc. 2010-21466 Filed 8-27-10; 8:45 am]

BILLING CODE 6717-01-P